DEPARTMENT OF TRANSPORTATION

Federal Aviation Administration

[Docket No. FAA-2012-0255]

Public Meeting: U.S. Registration of Aircraft in the Name of Owner Trustees

AGENCY: Federal Aviation Administration.

ACTION: Notice of Public Meeting.

SUMMARY: The FAA will be holding a public meeting on Wednesday, June 6, 2012, on the Notice of Proposed Policy Clarification Regarding the Registration of Aircraft to U.S. Citizen Trustees in Situations Involving Non-U.S. Citizen Trustors and Beneficiaries. During the meeting, the FAA will be seeking further views from the public with respect to the use of owner trusts to register aircraft for the benefit of beneficiaries that are neither U.S. citizens nor resident aliens. The comment period for the policy clarification notice is extended until July 6, 2012.

DATES: The meeting will be held on Wednesday, June 6, 2012, beginning at 9 a.m. Central Time and ending no later than 5 p.m. Central Time. Written public comments regarding this FAA proposed policy should be submitted by July 6, 2012, via email to ladeana.peden@faa.gov.

ADDRESSES: The meeting will be held at the Marriott Renaissance Convention Center Hotel, 10 North Broadway Avenue, Oklahoma City, OK 73102. Phone 1-405-228-8000 or 1-800-466-8351.

FOR FURTHER INFORMATION CONTACT: LaDeana Peden at 405-954-3296, Office of Aeronautical Center Counsel, Federal Aviation Administration. [Assistance for the hearing impaired is available through the Sign Language Resource Service (SLRS), Inc. at: 1-888-842-9460 or 405-721-0800 or http://www.SLRSinc.com.]

SUPPLEMENTARY INFORMATION: Incident to the first public meeting in Oklahoma City, OK on June 1, 2011, FAA considered written and transcribed verbal comments by the public concerning issues relating to aircraft registration in the name of owner trustees for the benefit of non-U.S. citizen beneficiaries. FAA then followed up with a notice published in the Federal Register on February 9, 2012, proposing to clarify its policy and allowing written public comment on the proposed policy clarification until March 31, 2012. [Notice of Proposed Policy Clarification Regarding the Registration of Aircraft to U.S. Citizen Trustees in Situations Involving Non-U.S. Citizen Trustors and Beneficiaries.]

As a result of continuing public interest and as requested on behalf of the Aviation Working Group, FAA has decided to hold another public meeting and to extend the deadline for public comment from March 31, 2012 until July 6, 2012. Notwithstanding the extension of the deadline for comments, the FAA would welcome receiving written comments prior to the public meeting in order to frame the discussion at the meeting. The FAA expects that the comments received in response to the February 9 notice and during the public meeting will enable it to develop a final policy clarification shortly thereafter.

Issued in Washington DC on March 9, 2012.
Kathryn B. Thomson,
Chief Counsel, Federal Aviation Administration.

[FR Doc. 2012-6146 Filed 3-13-12; 8:45 am]

BILLING CODE 4910-13-P